DEPARTMENT OF COMMERCE

Foreign-Trade Zones Board

[Docket 17-2001]

Foreign-Trade Zone 138—Columbus, OH; Application for Subzone E.I. DuPont de Nemours and Company, Inc. (Chemical Products) Circleville, OH

An application has been submitted to the Foreign-Trade Zones Board (the Board) by the Rickenbacker Port Authority, grantee of FTZ 138, requesting special-purpose subzone status for the manufacturing and warehousing facilities of E.I. DuPont de Nemours and Company, Inc. (DuPont), located in Circleville, Ohio. The application was submitted pursuant to the provisions of the Foreign-Trade Zones Act, as amended (19 U.S.C. 81a-81u), and the regulations of the Board (15 CFR part 400). It was formally filed on April 23, 2001.

DuPont has two sites with 320 employees in Pickaway County, Ohio. Site 1 (750 acres) is located at U.S. Route 23 and DuPont Road, Circleville, Ohio. Site 2 (193,000 square feet) is located at 2300 Owens Road, Circleville, Ohio. The DuPont facility is used for the manufacturing, testing, packaging and warehousing of Kapton® polyimide films (HTS 3920.99.22, duty rate 4.2%), which are used in miniaturized electronic components, microprocessor chip carriers and high speed locomotive motors. Components and materials sourced from abroad (representing about 73% of all parts consumed in manufacturing) include: 4-4′-oxydianiline (ODA); 3,4,3′,4′ biphenyl tetracarboxylic dianhydride (BPDA); pyromellitic dianhydride (PMDA); benemine, 4,4′-(1,3-phenylenebis (oxy)) bis (RODA); and 4,4′-oxydiphthalic anhydride (ODPA) (HTS 2922.29.80, 2917.39.30, 2917.39.70, 2922.29.29, and 2917.39.30, duty rate ranges from 6.5% to 10.6%).

FTZ procedures would exempt DuPont from Customs duty payments on the foreign components used in export production. Some 35 percent of the plant's shipments are exported. On its domestic sales, DuPont would be able to choose the duty rates during Customs entry procedures that apply to finished polyimide film (4.2%) for the foreign inputs noted above. The request indicates that the savings from FTZ procedures would help improve the plant's international competitiveness.

In accordance with the Board's regulations, a member of the FTZ staff has been appointed examiner to investigate the application and report to the Board.

Public comment on the application is invited from interested parties. Submissions (original and 3 copies) shall be addressed to the Board's Executive Secretary at the address below. The closing period for their receipt is July 2, 2001. Rebuttal comments in response to material submitted during the foregoing period may be submitted during the subsequent 15-day period (to July 16, 2001).

A copy of the application and the accompanying exhibits will be available for public inspection at each of the following locations:

U.S. Department of Commerce, Export Assistance Center, Two Nationwide Plaza, Suite 1400, Columbus, OH 43215.

Office of the Executive Secretary, Foreign-Trade Zones Board, Room 4008, U.S. Department of Commerce, 14th and Pennsylvania Avenue, NW., Washington, DC 20230.

Dated: April 23, 2001.
Dennis Puccinelli,
Executive Secretary.

[FR Doc. 01-10859 Filed 4-30-01; 8:45 am]

BILLING CODE 3510-DS-P